DEPARTMENT OF TRANSPORTATION

Surface Transportation Board

[STB Docket No. AB-364 (Sub-No. 12X)]

Mid-Michigan Railroad, Inc.—Abandonment Exemption—in Kent and Ionia Counties, MI

On December 18, 2007, Mid-Michigan Railroad, Inc. (MMRR) filed with the Surface Transportation Board (Board) a petition under 49 U.S.C. 10502 seeking an exemption from the provisions of 49 U.S.C. 10903 for the abandonment of a 15.83-mile rail line between milepost 137.83, southeast of Lowell, and milepost 122.00, east of Prairie Center, the end of the line, in Kent and Ionia Counties, MI. The line traverses United States Postal Service Zip Codes 48846, 48881, and 49331 and includes the stations of Lowell, Saranac, and Ionia.

MMRR also seeks an exemption from the offer of financial assistance (OFA) procedures of 49 U.S.C. 10904. In support, MMRR states that it has entered into a Memorandum of Understanding to sell the line to West Michigan Trails and Greenway Coalition for interim trail use/rail banking. This request for exemption from the OFA provision will be addressed in the final decision.

The line does not contain Federally granted rights-of-way. Any documentation in MMRR's possession will be made available promptly to those requesting it.

The interest of railroad employees will be protected by the conditions set forth in Oregon Short Line R. Co.—Abandonment—Goshen, 360 I.C.C. 91 (1979).

Petitioner indicates that the proposed abandonment may generate comments, and it requests that the Board adopt a procedural schedule to allow it to file rebuttal to any comments received. Instead of addressing the request at this time, the Board will instead allow petitioner to raise the matter again, if comments and replies in response to the petition are actually filed. Comments and replies to the petition for exemption will be due on January 28, 2008. Once comments and replies are filed, MMRR may request leave to file rebuttal.

By issuance of this notice, the Board is instituting an exemption proceeding pursuant to 49 U.S.C. 10502(b). A final decision will be issued by April 4, 2008.

Any OFA under 49 CFR 1152.27(b)(2) will be due no later than 10 days after service of a decision granting the petition for exemption, unless the Board grants the requested exemption from the OFA process. Each OFA must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 28, 2008. Each trail use request must be accompanied by a $200 filing fee. See 49 CFR 1002.2(f)(27)(i).

All filings in response to this notice must refer to STB Docket No. AB-364 (Sub-No. 12X)] and must be sent to: (1) Surface Transportation Board, 395 E Street, SW., Washington, DC 20423-0001; and (2) Louis E. Gitomer, 600 Baltimore Avenue, Suite 301, Towson, MD 21204. Replies to the petition are due on or before January 28, 2008.

Persons seeking further information concerning the abandonment procedures may contact the Board's Office of Public Services at (202) 245-0230 or refer to the full abandonment or discontinuance regulations at 49 CFR part 1152. Questions concerning environmental issues may be directed to the Board's Section of Environmental Analysis (SEA) at (202) 245-0305. [Assistance for the hearing impaired is available through the Federal Information Relay Service at 1-800-877-8339.]

An environmental assessment (EA) (or environmental impact statement (EIS), if necessary), prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: January 2, 2008.
By the Board, David M. Konschnik, Director, Office of Proceedings.
Vernon A. Williams,
Secretary.

[FR Doc. E8-40 Filed 1-4-08; 8:45 am]

BILLING CODE 4915-01-P